DEPARTMENT OF HOMELAND SECURITY

Federal Emergency Management Agency

[Docket ID: FEMA-2023-0019; OMB No. 1660-0058]

Agency Information Collection Activities: Submission for OMB Review, Comment Request; Fire Management Assistance Grant Program

AGENCY: Federal Emergency Management Agency, Department of Homeland Security.

ACTION: 30-Day notice of revision and request for comments.

SUMMARY: The Federal Emergency Management Agency (FEMA), as part of its continuing effort to reduce paperwork and respondent burden, invites the general public to take this opportunity to comment on a revision of a currently approved information collection. In accordance with the requirements of the Paperwork Reduction Act of 1995, this notice seeks comments concerning the information collected as required for Fire Management Assistance Grant Program (FMAGP) eligibility determinations, grants management, and compliance with other Federal laws and regulations.

DATES: Comments must be submitted on or before January 22, 2024.

ADDRESSES: Written comments and recommendations for the proposed information collection should be sent within 30 days of publication of this notice to www.reginfo.gov/public/do/PRAMain. Find this information collection by selecting “Currently under 30-day Review—Open for Public Comments” or by using the search function.

FOR FURTHER INFORMATION CONTACT: Antonio Jones, FMAG Program Manager, at (540) 326-1928 or fema-recovery-pa-policy@fema.dhs.gov. You may contact the Information Management Division for copies of the proposed collection of information at email address: FEMA-Information-Collections-Management@fema.dhs.gov.

SUPPLEMENTARY INFORMATION: The information collected is required for Fire Management Assistance Grant Program (FMAGP) eligibility determinations, grants management, and compliance with other Federal laws and regulations. The FMAGP was established under Section 420 of the Robert T. Stafford Disaster Relief and Emergency Assistance Act, 42 U.S.C. 5187, as amended by § 303 of the Disaster Mitigation Act of 2000 and authorizes the President to provide assistance to any state or local government for the mitigation, management, and control of any fire on public or private forest land or grassland that threatens such destruction as would constitute a major disaster. 44 CFR part 204 specifies the information collections necessary to facilitate the provision of assistance under the FMAGP. Additionally, the information collection is used by both FEMA Regional and State staff to facilitate the declaration request and grant administration processes of FMAGP, as well as end of year internal reporting of overall declaration requests and estimated grant outlays.

This proposed information collection previously published in the Federal Register on August 11, 2023, at 88 FR 54633 with a 60-day public comment period. The public comment period closed on October 10, 2023, with three public comments received. Two comments from individuals are not germane to this collection. One comment from a state agency asked several questions about each instrument in turn and a summary of FEMA's responses to those questions are below.

Question: Who is the intended audience for each of these instruments?

FEMA Response: The intended audience is the state, local, Tribal, or territorial governments around the country for the mitigation, management, and control of any declared fire on public or private forest land or grassland that threatens such destruction as would constitute a major disaster.

Question: Is the Project Number known at the time these instruments are filled out?

FEMA Response: In the FEMA Go system, the project number will be a system-generated data element, auto populated as part of the collection of information process. The Applicant will not need to manually enter a project number when completing the instrument in a web-based interface or in hard copy (if necessary).

Question: Is the Recipient the same as Applicant? If so, we suggest using the same terminology.

FEMA Response: No. The Recipient is the state, local, Tribal, or territorial government who is awarded an FMAG grant and is accountable for the use of the funds provided. This generally includes the state as designated in the FEMA-State Agreement for the FMAG. After an FMAG declaration, a tribal government may choose to be a Recipient, or it may act as a Subrecipient under the state. For more information regarding the definition of the terms “Applicant” and “Recipient” refer to 44 CFR 204.3—Definitions (https://www.ecfr.gov/current/title-44/section-204.3).

Question: Are “Summary Record and Summary Template” the same? If so, we suggest using the same terminology.

FEMA Response: The summary report and summary template should be the same thing. The Agency will consider whether the language can be standardized or if the summary template will be something the Applicant completes in the web-based system.

Question: For the Principal Advisor's Report's Prevailing Weather Conditions, is this at the time of the FMAG request? Verbally or in writing?

FEMA Response: The prevailing weather can be provided verbally and later confirmed with a written submission from either real time observations when completing the report or through various weather-related sources and monitoring agencies.

Question: For the Principal Advisor's Report's Prediction of Weather and Fire Conditions for the Next 24 Hours (Fire Behavior), are these for the following 24 hours after the request has been made? Verbally or in writing?

FEMA Response: These are for the following 24 hours after the request has been made. These predictions can be provided verbally and later confirmed with a written submission from various weather-related sources and monitoring agencies.

Question: We suggest using the term “Subgrantee” and not “Applicant” throughout the Request for Fire Management Assistance Subgrant.

FEMA Response: The term “Applicant” is correct, per 44 CFR part 204.3, and will not be revised on the FMAG instruments.

Question: Is the “Applicant” on the Request for Fire Management Assistance Subgrant different from the “Applicant” listed on forms FF-104-FY-23-100, -101, -102, and -103?

FEMA Response: No, the term “Applicant” refers to the same entity across the FMAG-related instruments.

The purpose of this notice is to notify the public that FEMA will submit the information collection abstracted below to the Office of Management and Budget for review and clearance.

Collection of Information

Title: Fire Management Assistance Grant Program.

Type of Information Collection: Revision of a currently approved information collection.

OMB Number: 1660-0058.

FEMA Forms: FEMA Form FEMA Form FF-104-FY-21-165 (formerly FEMA Form 078-0-1), Principal Advisor's Report; FEMA Form FF-104-FY-21-166 (formerly FEMA Form 078-0-1), Request for Fire Management Assistance Declaration; FEMA Form FF-104-FY-21-167 (formerly FEMA Form 089-0-24), Request for Fire Management Assistance Subgrant; FEMA Form FF-104-FY-23-100, Application for Management Costs; FEMA Form FF-104-FY-23-101, Project Application for Emergency Protective Measures; FEMA Form FF-104-FY-23-102, Project Application for Firefighting Activities; FEMA Form FF-104-FY-23-103 Time Extensions; No form, FEMA-State Agreement and Amendment; No form, State Administrative Plan for Fire Management Assistance; No form, Appeal Letter; No form, Duplication of Benefits Letter; and No form, Training Sessions.

Abstract: The information collected is required for Fire Management Assistance Grant Program (FMAGP) eligibility determinations, grants management, and compliance with other Federal laws and regulations. The FMAGP was established under the Robert T. Stafford Disaster Relief and Emergency Assistance Act and authorizes the President to provide assistance to any state or local government for the mitigation, management, and control of any fire on public or private forest land or grassland that threatens such destruction as would constitute a major disaster. Federal regulations specify the information collections necessary to facilitate the provision of assistance under the FMAGP. Additionally, the information collection is used by both FEMA Regional and State staff to facilitate the declaration request and grant administration processes of FMAGP, as well as end of year internal reporting of overall declaration requests and estimated grant outlays.

Affected Public: State, Local or Tribal Government.

Estimated Number of Respondents: 278.

Estimated Number of Responses: 953.

Estimated Total Annual Burden Hours: 1,211.

Estimated Total Annual Respondent Cost: $105,406.

Estimated Respondents' Operation and Maintenance Costs: $0.

Estimated Respondents' Capital and Start-Up Costs: $0.

Estimated Total Annual Cost to the Federal Government: $682,930.

Comments

Comments may be submitted as indicated in the ADDRESSES caption above. Comments are solicited to (a) evaluate whether the proposed data collection is necessary for the proper performance of the Agency, including whether the information shall have practical utility; (b) evaluate the accuracy of the Agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Millicent Brown Wilson,
Records Management Branch Chief, Office of the Chief Administrative Officer, Mission Support, Federal Emergency Management Agency, Department of Homeland Security.

[FR Doc. 2023-28149 Filed 12-20-23; 8:45 am]

BILLING CODE 9111-24-P